DEPARTMENT OF THE INTERIOR

Bureau of Reclamation

[RR03042000, 15XR0680A1, RX.18786000.1501100]

Agency Information Collection Activities Under OMB Review; Renewal of a Currently Approved Information Collection (OMB Control Number 1006-0014)

AGENCY: Bureau of Reclamation, Interior.

ACTION: Notice and request for comments.

SUMMARY: We, the Bureau of Reclamation, have forwarded the following Information Collection Request to the Office of Management and Budget (OMB) for review and approval: Lower Colorado River Well Inventory, OMB Control Number 1006-0014. The Information Collection Request describes the nature of the information collection and its expected cost burden.

DATES: OMB has up to 60 days to approve or disapprove this information collection request, but may respond after 30 days; therefore, public comments must be received on or before September 28, 2015.

ADDRESSES: Send written comments to the Desk Officer for the Department of the Interior at the Office of Management and Budget, Office of Information and Regulatory Affairs, via facsimile to (202) 395-5806, or email to oira_submission@omb.eop.gov. A copy of your comments should also be directed to Paul Matuska, Water Accounting and Verification Group Manager, LC-4200, Bureau of Reclamation, Lower Colorado Regional Office, P.O. Box 61470, Boulder City, NV 89006-1470; or by email to pmatuska@usbr.gov. Please reference OMB Control Number 1006-0014 in your comments.

FOR FURTHER INFORMATION CONTACT: Paul Matuska at (702) 293-8164. You may also view the Information Collection Request at www.reginfo.gov.

SUPPLEMENTARY INFORMATION: In accordance with the Paperwork Reduction Act of 1995 (44 U.S.C. 3501 et seq.), this notice announces that the Bureau of Reclamation is requesting approval for the collection of data from well and river-pump owners and operators along the lower Colorado River in Arizona, California, and Nevada.

I. Abstract

Pursuant to the Boulder Canyon Project Act (Public Law 70-642, 45 Stat. 1057), all diversions of mainstream Colorado River water must be in accordance with a Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells.

II. Data

OMB Control Number: 1006-0014.

Title: Lower Colorado River Well Inventory.

Form Number: LC-25.

Frequency: These data are collected only once for each well or river-pump owner or operator as long as changes in water use, or other changes that would impact contractual or administrative requirements, are not made. A respondent may request that the data for its well or river pump be updated after the initial inventory.

Respondents: Well and river-pump owners and operators along the lower Colorado River in Arizona, California, and Nevada. Each diverter (including well pumpers) must be identified and their diversion locations and water use determined.

Estimated Completion Time: An average of 20 minutes is required to interview individual well and river-pump owners or operators.

Estimated Annual Total Number of Respondents: 300.

Estimated Number of Responses per Respondent: 1.0.

Estimated Total Number of Annual Responses: 300.

Estimated Total Annual Burden on Respondents: 100 hours.

III. Request for Comments

A Federal Register notice with a 60-day comment period soliciting comments on this collection of information was published on February 3, 2015 (80 FR 5786). No comments were received.

We again invite comments concerning this information collection on:

(a) Whether the proposed collection of information is necessary for the proper performance of our functions, including whether the information will have practical use;

(b) the accuracy of our burden estimate for the proposed collection of information, including the validity of the methodology and assumptions used;

(c) ways to enhance the quality, usefulness, and clarity of the information to be collected; and

(d) ways to minimize the burden of the collection of information on respondents, including the use of automated collection techniques or other forms of information technology.

An agency may not conduct or sponsor, and a person is not required to respond to, a collection of information unless it displays a currently valid OMB control number. Reclamation will display a valid OMB control number on the form.

IV. Public Disclosure

Before including your address, phone number, email address, or other personal identifying information in your comment, you should be aware that your entire comment—including your personal identifying information—may be made publicly available at any time. While you can ask us in your comment to withhold your personal identifying information from public review, we cannot guarantee that we will be able to do so.

Dated: August 19, 2015.
Terrance J. Fulp,
Regional Director, Lower Colorado Region.

[FR Doc. 2015-21320 Filed 8-27-15; 8:45 am]

BILLING CODE 4332-90-P